DEPARTMENT OF DEFENSE

Office of the Secretary

[Docket No. DOD-2008-OS-0017]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed collection of public information and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by May 5, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Community and Family Policy), Department of Defense Education Activity, (Research & Evaluation Branch), ATTN: Dr. Joseph M. Baltrus, 4040 North Fairfax Drive, Arlington, VA 22203-1635 or call at (703) 588-3163.

Title, and OMB Control Number: Department of Defense Education Activity (DoDEA) Sure Start Parent Questionnaire; OMB Control Number 0704-TBD.

Needs and Uses: This information collection is necessary to allow mid and end of year measurement of Sure Start's effectiveness in meeting the needs of DoDEA students and families. The DoDEA Sure Start Parent Questionnaire measures the satisfaction level of parents/sponsors of students enrolled in DoDEA Sure Start programs.

Affected Public: Individuals or households.

Annual Burden Hours: 11.

Number of Respondents: 33.

Responses Per Respondent: 2.

Average Burden Per Response: 10 minutes.

Frequency: Biannually.

SUPPLEMENTARY INFORMATION:

Summary of Information Collection

The DoDEA Sure Start program is an educational program for preschoolers who are “at risk” for later school failure because of economic circumstance or other health and/or family factors. Because this program is expensive to replicate, it is reserved for those children and families who will most benefit from participation in the program. As specified in the internal document, “Sure Start Program Guide 2007-2008 Department of Defense Education Activity,” DoDEA Sure Start staff is required to assess the quality of the program as a whole. One component of this program assessment is the completion of a parent questionnaire, which when combined with additional data elements, will be used to develop the annual progress plan. The Sure Start Parent Questionnaire measures the satisfaction level of parents/sponsors of students enrolled in DoDEA Sure Start programs. This questionnaire will be handed out during mid-year parent meetings and again at the end of the year as part of the on-going program evaluation. Individual schools are charged with administering the questionnaire to the parents of students in the Sure Start program. If a student withdraws prior to the end of the school year, the family will be given the questionnaire. Responses will be tallied by each school and forwarded to the Early Childhood specialist in each area (DDESS, Europe, and the Pacific). Individual schools, in coordination with the area office and DoDEA Headquarters, will use these data to ensure that the Sure Start program is being implemented as required and to make continual program improvements. In addition to being informed in writing, all eligible respondents will be verbally informed that their participation is voluntary and no benefit/punishment is attached to a response or non-response.

Dated: February 8, 2008
Patricia L. Toppings,
Alternate OSD Federal Register, Liaison Officer, Department of Defense.

[FR Doc. E8-4399 Filed 3-5-08; 8:45 am]

BILLING CODE 5001-06-P